DEPARTMENT OF THE INTERIOR

Fish and Wildlife Service

[FWS-R8-FHC-2016-N141; FXFR1334088TWG0W4-123-FF08EACT00]

Trinity River Adaptive Management Working Group; Public Meeting, Teleconference, and Web-Based Meeting

AGENCY: Fish and Wildlife Service, Interior.

ACTION: Notice.

SUMMARY: We, the U.S. Fish and Wildlife Service, announce a public meeting of the Trinity River Adaptive Management Working Group (TAMWG). The TAMWG is a Federal advisory committee that affords stakeholders the opportunity to give policy, management, and technical input concerning Trinity River (California) restoration efforts to the Trinity Management Council (TMC). The TMC interprets and recommends policy, coordinates and reviews management actions, and provides organizational budget oversight.

DATES: Public meeting, Teleconference, and Web-based meeting: TAMWG will meet from 9:30 a.m. to 4 p.m. Pacific Time on Monday, September 26, 2016, and from 9:30 a.m. to 3 p.m. Pacific Time on Tuesday, September 27, 2016. Submitting Information: If you wish to submit written information or questions for the TAMWG to consider during the meeting, you must contact Elizabeth Hadley (FOR FURTHER INFORMATION CONTACT) no later than September 16, 2016.

ADDRESSES: Meeting: The meeting will be held at the Trinity River Restoration Program Office, 1313 South Main Street, Weaverville, CA 96093. Teleconference: The call in number: 866-715-1246, and the participant pass code is: 4251781. Web-based meeting: http://www.mymeetings.com/nc/join.php?sigKey=mymeetings&i=442336293&p=&t=c

FOR FURTHER INFORMATION CONTACT: Joseph C. Polos, by mail at U.S. Fish and Wildlife Service, 1655 Heindon Road, Arcata, CA 95521; by telephone at 707-822-7201 or by email at joe_polos@fws.gov or Elizabeth W. Hadley, Redding Electric Utility, by mail at 777 Cypress Avenue, Redding, CA 96001; by telephone at 530-339-7308 or by email at ehadley@reupower.com. Individuals with a disability may request an accommodation by sending an email to either point of contact.

SUPPLEMENTARY INFORMATION: In accordance with the requirements of the Federal Advisory Committee Act, 5 U.S.C. App., we announce that the Trinity River Adaptive Management Working Group will hold a meeting. The TAMWG affords stakeholders the opportunity to give policy, management, and technical input concerning Trinity River (California) restoration efforts to the Trinity Management Council (TMC). The TMC interprets and recommends policy, coordinates and reviews management actions, and provides organizational budget oversight.

Meeting Agenda

• Designated Federal Officer (DFO) update;

• TMC Chair update;

• Executive Director Updates;

• Trinity River Restoration Program (TRRP) Outmigrant Monitoring;

• TRRP Bird Monitoring;

• TRRP Compliance Monitoring;

• TRRP Flow Scheduling Process;

• Letters from members of the public;

• Issues identified at joint TAMWG/TMC meeting;

• Current TMC Issues; and

• Public comment.

The final agenda will be posted on the Internet at http://www.fws.gov/arcata.

Public Input

Interested members of the public may submit relevant information or questions for the TAMWG to consider during the meeting. Written statements must be received by the date listed in DATES, so that the information may be available to the TAMWG for their consideration prior to this meeting. Written statements must be supplied to Elizabeth Hadley in one of the following formats: One hard copy with original signature, one electronic copy with original signature, and one electronic copy via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The minutes will be available for public inspection within 14 days after the meeting, and will be posted on the TAMWG Web site at http://www.fws.gov/arcata.

Dated: August 30, 2016.
Joseph C. Polos,
Supervisory Fish Biologist, Arcata Fish and Wildlife Office, Arcata, California.

[FR Doc. 2016-21289 Filed 9-2-16; 8:45 am]

BILLING CODE 4333-15-P